DEPARTMENT OF COMMERCE

National Oceanic and Atmospheric Administration

[I.D. 100305C]

New England Fishery Management Council; Public Meeting

AGENCY: National Marine Fisheries Service (NMFS), National Oceanic and Atmospheric Administration (NOAA), Commerce.

ACTION: Notice; advisory panel meeting.

SUMMARY: The New England Fishery Management Council's (Council) Habitat Advisory Panel will meet to consider actions affecting New England fisheries in the exclusive economic zone (EEZ).

DATES: The meeting will be held on Wednesday, October 26, 2005, from 10 a.m. to 5 p.m.

ADDRESSES: The meeting will be held at the Holiday Inn, 291 Jones Road, Falmouth, MA 02540; Phone:(508) 540-2000.

Council address: New England Fishery Management Council, 50 Water Street, Mill 2, Newburyport, MA 01950.

FOR FURTHER INFORMATION CONTACT: Paul J. Howard, Executive Director, New England Fishery Management Council; telephone: (978)465-0492.

SUPPLEMENTARY INFORMATION: The items of discussion in the panel's agenda is as follows:

Agenda for Wednesday, October 26, 2005

The Advisory Panel will discuss items relative to the development of the Council's Essential Fish Habitat Omnibus Amendment #2 action:

1. Briefing on and review of Habitat Area of Particular Concern proposals

2. Final review of Advisory Panel gear description document3.

Discussion of a potential gear description workshop

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Dated: October 3, 2005.
Emily Menashes,
Acting Director, Office of Sustainable Fisheries, National Marine Fisheries Service.

[FR Doc. E5-5486 Filed 10-5-05; 8:45 am]

BILLING CODE 3510-22-S